DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing updates to the identifying information of one or more persons currently included on the SDN List.

DATES: This action takes effect on the date listed in Supplementary Information.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Compliance, tel.: 202-622-2490.

SUPPLEMENTARY INFORMATION:

Electronic Availability

The Specially Designated Nationals and Blocked Persons List and additional information concerning OFAC sanctions programs are available on OFAC's website. (https://www.treasury.gov/ofac).

Notice of OFAC Actions

A. On July 25, 2024, OFAC determined that the property and interests in property subject to U.S. jurisdiction of the following persons are blocked under the relevant sanctions authority listed below.

Individuals

1. LOPEZ AMBROSIO, Whiskey Hans, Guatemala; DOB 03 Nov 1999; POB Malacatan, Guatemala; nationality Guatemala; citizen Guatemala; Gender Male (individual) [TCO] (Linked To: LOPEZ HUMAN SMUGGLING ORGANIZATION).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended), for being owned or controlled by, or having acted or purported to act for or on behalf of, directly or indirectly, the LOPEZ HUMAN SMUGGLING ORGANIZATION, a person whose property and interests in property are blocked pursuant to E.O. 13581, as amended.

2. LOPEZ ESCOBAR, Ronaldo Galindo (a.k.a. “Tio Roni”), San Francisco Nueva Reforma, Malacatan, Guatemala; DOB 14 Sep 1977; POB Guatemala; nationality Guatemala; citizen Guatemala; Gender Male; Passport 000510054 (Guatemala) (individual) [TCO] (Linked To: LOPEZ HUMAN SMUGGLING ORGANIZATION).

Designated pursuant to section 1(a)(ii)(C) of E.O. 13581, as amended, for being owned or controlled by, or having acted or purported to act for or on behalf of, directly or indirectly, the LOPEZ HUMAN SMUGGLING ORGANIZATION, a person whose property and interests in property are blocked pursuant to E.O. 13581, as amended.

3. HERNANDEZ VANEGAS, Karen Stefany, Guatemala; DOB 12 Mar 2002; POB Livingston Izabal, Guatemala; nationality Guatemala; citizen Guatemala; Gender Female (individual) [TCO] (Linked To: LOPEZ HUMAN SMUGGLING ORGANIZATION).

Designated pursuant to section 1(a)(ii)(C) of E.O. 13581, as amended, for being owned or controlled by, or having acted or purported to act for or on behalf of, directly or indirectly, the LOPEZ HUMAN SMUGGLING ORGANIZATION, a person whose property and interests in property are blocked pursuant to E.O. 13581, as amended.

Entity

1. LOPEZ HUMAN SMUGGLING ORGANIZATION, Mexico; Guatemala; Target Type Criminal Organization [TCO].

Designated pursuant to section 1(a)(ii)(A) of E.O. 13581, as amended, for being a foreign person that constitutes a significant transnational criminal organization.

Dated: July 25, 2024.
Lisa M. Palluconi,
Deputy Director, Office of Foreign Assets Control, U.S. Department of the Treasury.

Editorial Note: This document was received for publication by the Office of the Federal Register on November 19, 2024.

[FR Doc. 2024-27462 Filed 11-22-24; 8:45 am]

BILLING CODE 4810-AL-P